INTERNATIONAL TRADE COMMISSION

[Investigation No. 337-TA-1304]

Certain Wet Dry Surface Cleaning Devices; Notice of Final Determination Finding a Violation of Section 337; Issuance of Limited Exclusion Order, Cease and Desist Order, and Bond; Termination of Investigation

AGENCY: U.S. International Trade Commission.

ACTION: Notice.

SUMMARY: Notice is hereby given that the U.S. International Trade Commission (“Commission”) has determined that the respondents have violated section 337 of the Tariff Act of 1930, as amended, by importing, selling for importation, or selling in the United States after importation certain wet dry surface cleaning devices that infringe one or more asserted claims of U.S. Patent Nos. 11,076,735 (“the '735 patent”) and 11,071,428 (“the '428 patent”). The Commission has determined there is no violation of section 337 with respect to U.S. Patent Nos. 11,122,949 (“the '949 patent”), 10,820,769 (“the '769 patent”), and 11,096,541 (“the '541 patent”). Upon consideration of the statutory public interest factors, the Commission has determined that the appropriate remedies are a limited exclusion order and cease and desist orders against the named respondents. The Commission has also determined to set a bond in the amount of $99.01 per covered iFloor 3 product, $99.01 per covered Floor One S3 product, and $0 per any other covered product imported during the 60-day period of Presidential review. This investigation is hereby terminated.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 9, 2022, the Commission instituted this investigation under section 337 of the Tariff Act of 1930, as amended, 19 U.S.C. 1337 (“section 337”), based on a complaint filed by Bissell Inc. and Bissell Homecare, Inc., both of Grand Rapids, Michigan (collectively, “Complainants” or “Bissell”). See 87 FR 13311-12 (March 9, 2022). The complaint, as supplemented, alleges violations of section 337 based upon the importation into the United States, the sale for importation, and the sale within the United States after importation of certain wet dry surface cleaning devices by reason of infringement of certain claims of the '735 patent, the '428 patent, the '949 patent, the '541 patent, and the '769 patent. Id. The complaint further alleges that a domestic industry (“DI”) exists. Id. The notice of investigation names as respondents Tineco Intelligent Technology Co., Ltd. of Suzhou City, China; TEK (Hong Kong) Science & Technology Ltd. of Hong Kong, China; and Tineco Intelligent, Inc. of Seattle, Washington (collectively, “Respondents”). Id. The Office of Unfair Import Investigations is not participating in this investigation.

On March 24, 2023, the Chief Administrative Law Judge (“CALJ”) issued a final initial determination (“FID”), finding that a violation of section 337 has occurred in the importation into the United States, the sale for importation, or the sale within the United States after importation, of certain wet dry surface cleaning devices that infringe one or more of claims 1, 13, and 15 of the '735 patent or claim 1 of the '428 patent. The FID further finds no violation of section 337 with respect to the asserted claims of the '949 patent, the '769 patent, and the '541 patent. On April 7, 2023, the CALJ issued a recommended determination (“RD”) on remedy and bond recommending that the Commission issue a limited exclusion order and cease and desist orders if a violation is found. The RD further recommends setting a bond of $49.01 per covered iFloor 3 product, $99.01 per covered Floor One S3 product, and $0 per any other infringing accused product imported during the period of Presidential review.

On April 7, 2023, Complainants filed a combined petition and contingent petition requesting review of the FID's findings of non-infringement as to the '949, '541, and '769 patents, that Complainants failed to satisfy the technical prong for the '541 patent, that certain redesigned accused products do not infringe the '735 and '428 patents, and waiver of Complainants' infringement argument as to the '428 patent. Complainants also sought contingent review of certain economic prong findings. That same day, Respondents filed a combined petition and contingent petition requesting review of the FID's findings that the original accused products infringe the '735 and '428 patents, that the asserted claims of the '735 and '428 patents are not invalid, that Complainants satisfied the technical prong of the domestic industry requirement as to the '735 and '428 patents, and that Complainants satisfied the economic prong of the DI requirement for all of the asserted patents. Respondents also sought contingent review of the FID's findings that the asserted claims of the '949, '541, and '769 patents are not invalid for obviousness. On April 17, 2023, Complainants and Respondents filed their respective responses to the petitions for review.

On April 10, 2023, the Commission issued a notice requesting submissions from non-parties on the public interest. See 88 FR 22479-80 (April 13, 2023). On May 8, 2023, Representative Hillary J. Scholten submitted a response to the Commission's notice seeking public interest submissions. EDIS Doc. ID 795898 (May 8, 2023). On May 9, 2023, Bissell filed a submission on the public interest, pursuant to Commission Rule 210.50(a)(4). See 19 CFR 210.50(a)(4).

On August 1, 2023, the Commission determined to review the FID in part. See 88 FR 52208-09 (Aug. 7, 2023). Specifically, the Commission reviewed the FID's findings that: (1) Respondents do not infringe the '949, '541, and '769 patents; (2) Complainants did not satisfy the technical prong of the domestic industry requirement for the '541 patent; (3) the asserted claims of the '735 and '428 patents are not invalid; and (4) Complainants satisfied the economic prong of the domestic industry requirement under subsections 337(a)(3)(B) and (C). Id. at 52208. The Commission determined not to review, and thus adopted, the FID's other findings. Id. The Commission requested briefing on remedy, the public interest, and bonding, but it did not request additional briefing on the violation issues listed above. Id. at 52208-09.

On August 15, 2023, Complainants and Respondents filed their respective responses to the Commission's request for briefing on remedy, bond, and the public interest. On August 22, 2023, Complainants and Respondents filed their replies to each other's responses.

Having reviewed the record in this investigation, including the final ID and the parties' petitions and responses thereto, the Commission has determined that Respondents have violated section 337 by importing into the United States, selling for importation, or selling in the United States after importation certain wet dry surface cleaning devices that infringe one or more of claims 1, 13, and 15 of the '735 patent or claim 1 of the '428 patent. The Commission finds no violation with respect to the '949 patent, the '541 patent, or the '769 patent.

Upon consideration of the RD, and the parties' and third party's submissions on remedy, bonding and the public interest, the Commission has determined that the appropriate remedy is: (i) a limited exclusion order prohibiting Respondents from importing wet dry surface cleaning devices that infringe one or more of claims 1, 13, and 15 of the '735 patent or claim 1 of the '428 patent; and (ii) a cease and desist order against each Respondent. The Commission has determined to set a bond in the amount of $99.01 per covered iFloor 3 product, $99.01 per covered Floor One S3 product, and $0 per any other covered product imported during the 60-day period of Presidential review (see 19 U.S.C. 1337(j)(3)). The Commission has determined that the public interest factors do not preclude issuance of a remedy.

The Commission issues its opinion herewith setting forth its determinations on certain issues. This investigation is hereby terminated.

The Commission's orders and opinion were delivered to the President and United States Trade Representative on the day of their issuance.

The Commission voted to approve these determinations on December 18, 2023.

The authority for the Commission's determination is contained in section 337 of the Tariff Act of 1930, as amended (19 U.S.C. 1337), and in part 210 of the Commission's Rules of Practice and Procedure (19 CFR part 210).

By order of the Commission.
Issued: December 18, 2023.
Sharon Bellamy,
Supervisory Hearings and Information Officer.

[FR Doc. 2023-28229 Filed 12-21-23; 8:45 am]

BILLING CODE 7020-02-P